SECURITIES AND EXCHANGE COMMISSION

17 CFR Parts 200, 230, 232, 239, 240, 270, and 274

[Release Nos. 33-10765; 34-88358; IC-33814; File No. S7-23-18]

RIN 3235-AK60

Updated Disclosure Requirements and Summary Prospectus for Variable Annuity and Variable Life Insurance Contracts

Correction

In rule document 2020-05526, beginning on page 26954 in the issue of Friday, May 1, 2020, make the following correction:

§ 274.11 [Corrected]

On page 26256, in § 274.11, after the photo material, insert the following amendatory instructions:

48. Effective January 1, 2022, Form N-4 (referenced in §§ 239.17b and 274.11c) is further amended by removing paragraph (a)(9) of Item 1.

49. Revise Form N-6 (referenced in §§ 239.17c and 274.11d) to read as follows:

Note: The text of Form N-6 will not appear in the Code of Federal Regulations.

[FR Doc. C2-2020-05526 Filed 5-15-20; 8:45 am]

BILLING CODE 1301-00-D